DEPARTMENT OF ENERGY

Federal Energy Regulatory Commission

[Docket No. CP12-340-000]

Gulfstream Natural Gas System, L.L.C.; Notice of Request Under Blanket Authorization

Take notice that on April 30, 2012 Gulfstream Natural Gas System, L.L.C. (Gulfstream), 2701 North Rocky Point Drive, Suite 1050, Tampa, Florida, 33607, filed in the above Docket, a prior notice request pursuant to sections 157.205, and 157.210 of the Commission's regulations under the Natural Gas Act (NGA), for authorization to update its mainline design to reflect an increase in its total system capacity from 1,271.2 MMcfd (1,298 MDthd) to 1,278.3 MMcfd (1,300 Dthd), all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Gulfstream will post this capacity on its electronic bulletin board as available capacity subject to approval of this Notice. Gulfstream will allocate this available capacity on a first-come, first-served basis, in accordance with its FERC Gas Tariff.

Any questions concerning this application may be directed to Lisa A. Connolly, General Manager, Rates and Certificates, Gulfstream Natural Gas System, L.L.C., 5400 Westheimer Court, P.O. Box 1642, Houston, Texas, 77251-1642 at (713) 627-4102, or by email at laconnolly@spectraenergy.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Dated: May 9, 2012.
Kimberly D. Bose,
Secretary.

[FR Doc. 2012-11738 Filed 5-15-12; 8:45 am]

BILLING CODE 6717-01-P